DEPARTMENT OF ENERGY

Federal Energy Regulatory Commission

Combined Notice of Filings #2

Take notice that the Commission received the following exempt wholesale generator filings:

Docket Numbers: EG20-66-000.

Applicants: White Cloud Wind Project, LLC.

Description: Notice of Self-Certification of Exempt Wholesale Generator Status of White Cloud Wind Project, LLC.

Filed Date: 1/17/20.

Accession Number: 20200117-5186.

Comments Due: 5 p.m. ET 2/7/20.

Docket Numbers: EG20-67-000.

Applicants: Outlaw Wind Project, LLC.

Description: Notice of Self-Certification of Exempt Wholesale Generator Status of Outlaw Wind Project, LLC.

Filed Date: 1/17/20.

Accession Number: 20200117-5192.

Comments Due: 5 p.m. ET 2/7/20.

Take notice that the Commission received the following electric rate filings:

Docket Numbers: ER10-1819-022; ER10-1820-025; ER10-1818-020.

Applicants: Northern States Power Company, a Minnesota corporation, Northern States Power Company, a Wisconsin corporation, Public Service Company of Colorado.

Description: Notice of Change in Status of Northern States Power Company, a Minnesota corporation, et al.

Filed Date: 1/17/20.

Accession Number: 20200117-5127.

Comments Due: 5 p.m. ET 2/7/20.

Docket Numbers: ER10-2005-017; ER11-26-017; ER10-1841-017; ER19-987-004; ER19-1003-004; ER10-1845-017; ER19-1393-004; ER19-1394-004; ER10-1852-033; ER10-1905-017; ER10-1907-016; ER10-1918-017; ER10-1925-017; ER10-1927-017; ER10-1950-017; ER19-2398-001; ER10-2006-017; ER18-2246-005; ER18-1771-006; ER16-1872-007; ER10-1970-016; ER10-1972-016; ER16-2506-008; ER18-2224-006; ER13-2461-011; ER17-2270-008; ER12-1660-016; ER13-2458-011; ER10-2078-017; ER11-4462-039; ER10-1951-018; ER17-838-014.

Applicants: Ashtabula Wind II, LLC, Ashtabula Wind III, LLC, Butler Ridge Wind Energy Center, LLC, Crystal Lake Wind Energy I, LLC, Crystal Lake Wind Energy II, LLC, Crystal Lake Wind III, LLC, Endeavor Wind I, LLC, Endeavor Wind II, LLC, Florida Power & Light Company, FPL Energy Mower County, LLC, FPL Energy North Dakota Wind, LLC, FPL Energy North Dakota Wind II, LLC, FPL Energy Oliver Wind I, LLC, FPL Energy Oliver Wind II, LLC, Garden Wind, LLC, Hancock County Wind, LLC, Hawkeye Power Partners, LLC, Heartland Divide Wind Project, LLC, Langdon Renewables, LLC, Marshall Solar, LLC, NextEra Energy Duane Arnold, LLC, NextEra Energy Point Beach, LLC, Oliver Wind III, LLC, Pegasus Wind, LLC, Pheasant Run Wind, LLC, Stuttgart Solar, LLC, Tuscola Bay Wind, LLC, Tuscola Wind II, LLC, White Oak Energy LLC, NEPM II, LLC, NextEra Energy Services Massachusetts, LLC, NextEra Energy Marketing, LLC.

Description: Notice of Change in Status of NextEra Resources Entities.

Filed Date: 1/16/20.

Accession Number: 20200116-5157.

Comments Due: 5 p.m. ET 2/6/20.

Docket Numbers: ER20-842-000.

Applicants: PJM Interconnection, L.L.C.

Description: § 205(d) Rate Filing: Original ISA, SA No. 5550 and ICSA, SA No. 5551; Queue No. AB2-047 to be effective 12/17/2019.

Filed Date: 1/17/20.

Accession Number: 20200117-5108.

Comments Due: 5 p.m. ET 2/7/20.

Docket Numbers: ER20-843-000.

Applicants: Midcontinent Independent System Operator, Inc.

Description: Limited waiver request of Midcontinent Independent System Operator, Inc.

Filed Date: 1/17/20.

Accession Number: 20200117-5118.

Comments Due: 5 p.m. ET 2/7/20.

Docket Numbers: ER20-844-000.

Applicants: Hamilton Projects Acquiror, LLC.

Description: Baseline eTariff Filing: MBR Application to be effective 3/18/2020.

Filed Date: 1/17/20.

Accession Number: 20200117-5126.

Comments Due: 5 p.m. ET 2/7/20.

Docket Numbers: ER20-845-000.

Applicants: Golden Fields Solar II, LLC.

Description: Tariff Cancellation: Notice of Cancellation to be effective 1/17/2020.

Filed Date: 1/17/20.

Accession Number: 20200117-5141.

Comments Due: 5 p.m. ET 2/7/20.

Docket Numbers: ER20-846-000.

Applicants: Duke Energy Carolinas, LLC.

Description: § 205(d) Rate Filing: DEF Revisions to Schedule 2 (Removal of Higgins Units 2-4) to be effective 1/1/2020.

Filed Date: 1/17/20.

Accession Number: 20200117-5143.

Comments Due: 5 p.m. ET 2/7/20.

Take notice that the Commission received the following electric securities filings:

Docket Numbers: ES20-13-000.

Applicants: Union Electric Company.

Description: Application Under Section 204 of the Federal Power Act for Authorization to Issue Securities of Union Electric Company.

Filed Date: 1/17/20.

Accession Number: 20200117-5116.

Comments Due: 5 p.m. ET 2/7/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2020.
Nathaniel J. Davis, Sr.,
Deputy Secretary.

[FR Doc. 2020-01180 Filed 1-23-20; 8:45 am]

BILLING CODE 6717-01-P